DEPARTMENT OF TRANSPORTATION

Federal Aviation Administration

14 CFR Part 71

[Docket No. FAA-2012-0438; Airspace Docket No. 11-AWP-20];

Amendment of Area Navigation (RNAV) Route Q-130; UT

AGENCY: Federal Aviation Administration (FAA), DOT.

ACTION: Final rule.

SUMMARY: This action amends the description of RNAV route Q-130 by changing the name of the MRRNY waypoint to ROCCY. The FAA is taking this action following a pilot deviation incident wherein confusion resulted from the two similarly sounding waypoint names in the Q-130 description. In addition, the FAA is making minor editorial changes to the route description to standardize the format.

DATES: Effective Dates: 0901 UTC, July 26, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Background

A recent pilot deviation incident occurred wherein a pilot confused the MRRNY and similar-sounding MIRME waypoints, along RNAV route Q-130, during radio communications with air traffic control. To eliminate future misunderstandings, the FAA is changing the name “MRRNY” to “ROCCY,” This is a name change only as the geographic position of the waypoint remains the same as currently published. In addition, the FAA is making minor editorial changes to the Q-130 description that spells out the names of navigation aids, and adds state names for each waypoint or fix that forms the route. These changes standardize the format of route descriptions and do not affect the alignment of Q-130.

Because this action changes a waypoint name for safety reasons to avoid confusion in radio communications, notice and public procedures under 5 U.S.C. 553(b) are impractical and contrary to the public interest.

The Rule

This action amends Title 14 Code of Federal Regulations (14 CFR) part 71 by changing the name of the “MRRNY” waypoint in the description of RNAV route Q-130 to “ROCCY.” Additionally, this action makes minor editorial changes to the route description to standardize the format. These changes are editorial only and do not affect the existing alignment of Q-130.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it eliminates confusion on the part of pilots flying in the vicinity of Q-130.

United States area navigation routes are published in paragraph 2006 of FAA Order 7400.9V, effective September 15, 2011, which is incorporated by reference in 14 CFR 71.1. The RNAV route listed in this document will be published subsequently in the Order.

Environmental Review

The FAA has determined that this action qualifies for categorical exclusion under the National Environmental Policy Act in accordance with FAA Order 1050.1E, “Environmental Impacts: Policies and Procedures,” paragraph 311a. This action is an editorial change to an existing RNAV route description that not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, signed August 9, 2011, and effective September 15, 2011, is amended as follows:

Paragraph 2006 United States area navigation routes.

* * * * *

Q-130 Linden, CA to Panhandle, TX [Amended]

Linden, CA (LIN)

VORTAC (Lat. 38°04′29″ N., long. 121°00′14″ W.)

JSICA, NV

WP (Lat. 38°31′14″ N., long. 117°17′13″ W.)

REANA, NV

WP (Lat. 38°24′00″ N., long. 114°20′00″ W.)

ROCCY, UT

WP (Lat. 37°49′42″ N., long. 111°59′60″ W.)

Rattlesnake, NM (RSK)

VORTAC (Lat. 36°44′54″ N., long. 108°05′56″ W.)

DIXAN, NM

FIX (Lat. 36°16′51″ N., long. 105°57′20″ W.)

MIRME, NM

WP (Lat. 35°47′01″ N., long. 103°50′32″ W.)

Panhandle, TX (PNH)

VORTAC (Lat. 35°14′06″ N., long. 101°41′56″ W.)

Issued in Washington, DC, on May 16, 2012.
Ellen Crum,
Acting Manager, Airspace, Regulations & ATC Procedures Group.

[FR Doc. 2012-12538 Filed 5-23-12; 8:45 a.m.]

BILLING CODE 4910-13-P